DEPARTMENT OF TRANSPORTATION

Federal Aviation Administration

Notice of Intent To Release Certain Properties From All Terms, Conditions, Reservations and Restrictions of a Quitclaim Deed Agreement Between the City of Zephyrhills and the Federal Aviation Administration for the Zephyrhills Municipal Airport, Zephyrhills, FL

AGENCY: Federal Aviation Administration (FAA), DOT.

ACTION: Request for public comment.

SUMMARY: The FAA hereby provides notice of intent to release certain airport properties 33 acres at the Zephyrhills Municipal Airport, Zephyrhills, FL from the conditions, reservations, and restrictions as contained in a Quitclaim Deed agreement between the FAA and the City of Zephyrhills, dated May 15, 1947. The release of property will allow the City of Zephyrhills to dispose of the property for other than aeronautical purposes. The property is located on the southeast corner of airport property. The parcel is currently designated as non-aeronautical use. The property will be released of its federal obligations for municipal purposes. The fair market value of this parcel has been determined to be $500,000.

Documents reflecting the Sponsor's request are available, by appointment only, for inspection at the Zephyrhills Municipal Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: Comments are due on or before June 3, 2013.

ADDRESSES: Documents are available for review at the Zephyrhills Municipal Airport, and the FAA Airports District Office, 5950 Hazeltine National Drive, Suite 400, Orlando, FL 32822. Written comments on the Sponsor's request must be delivered or mailed to: Richard Owen, Program Manager, Orlando Airports District Office, 5950 Hazeltine National Drive, Suite 400, Orlando, FL 32822-5024.

FOR FURTHER INFORMATION CONTACT: Richard Owen, Program Manager, Orlando Airports District Office, 5950 Hazeltine National Drive, Suite 400, Orlando, FL 32822-5024.

Bart Vernace,
Manager, Orlando Airports District Office, Southern Region.

[FR Doc. 2013-10513 Filed 5-2-13; 8:45 am]

BILLING CODE 4910-13-P